ENVIRONMENTAL PROTECTION AGENCY

[ER-FRL-6660-7]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in FR dated April 2, 2004 (69 FR 17403).

Draft EISs

ERP No. D-AFS-J65428-CO Rating EC2, Vail Valley Forest Health Project, Proposed Landscape-Scale Vegetation Management and Fuels Reduction, White River National Forest, Holy Cross Ranger District, Eagle County, CO.

Summary: EPA expressed environmental concerns about potential effects to aquatic and terrestrial resources from large scale management activity, and requested additional information on the ongoing beetle epidemic, especially its impact on meeting project goals.

ERP No. D-AFS-J65431-UT Rating EC2, Duck Creek Fuels Treatment Analysis, To Reduce Fuels, Enhance Fire-Tolerant Vegetation and Provide Fuel Breaks, Dixie National Forest, Cedar City Ranger District, Kane County, UT.

Summary: EPA expressed environmental concerns about the potential for adverse impacts to water quality and aquatic habitat, degradation of soils and impacts to wildlife from reduction of old growth habitat. The Final EIS should discuss additional mitigation measures to reduce impacts in important wildlife habitat and back-country areas.

ERP No. D-AFS-J65434-CO Rating EC2, County Line Vegetation Management Project, Salvaging Spruce Beetle Infected Trees and Thinning Spruce-Fir Stand, Rio Grande National Forest, Conejos Peak Ranger District, Conejes County, CO.

Summary: EPA expressed environmental concerns about soil disturbance and erosion, runoff, sedimentation, and habitat impacts in streams that have a population of genetically pure Rio Grande cutthroat trout, and wildlife impacts to sensitive species such as threatened Canada Lynx, Northern Goshawk, and Boreal Owl. EPA recommended that the Preferred Alternative be modified to protect critical, older-growth spruce-fir wildlife habitats.

ERP No. D-AFS-K65277-CA Rating EC2, Modoc National Forest Noxious Weed Treatment Project, Proposes to Implement a Control and Eradication Project, Lassen, Modoc and Siskiyou Counties, CA.

Summary: EPA expressed environmental concerns about integration of weed treatments, impacts to water quality, toxicity of herbicides to wildlife, and addressing tribal concerns regarding herbicide use.

ERP No. D-USA-L11037-AK Rating EC2, Battle Area Complex (BAX) and a Combined Arms Collective Training Facility (CACTF) Construction and Operation, U.S. Army Training Lands in Alaska.

Summary: EPA expressed concerns related to water resource, wetland, and habitat impacts, and recommended that additional criteria could be used to expand the range of alternatives in order to minimize environmental impacts.

ERP No. DR-IBR-K39048-CA Rating EC2, Truckee River Operating Agreement (TROA) Modify Operations of Five Federal and Two Non-Federal Reservoirs to Facilitate Distribution of Water, Truckee River Basin, EL Dorado, Nevada, Placer and Sierra Counties, CA and Douglas, Lyon, Storey and Washoe Counties, NV.

Summary: EPA expressed concerns about potential impacts to water quality and sensitive resources, and requested additional information in the Final EIS on water quality, alternatives, biological resources, cumulative impacts, water conservation, and program monitoring and reporting measures.

Final EISs

ERP No. F-AFS-J65399-00 High Mountains Heli-Skiing (HMH) Project, Issuance of a New 5-Year Special Use Permit (SUP) to Continue Operating Guided Helicopter Skiing in Portions of the Bridger-Teton National Forest and Caribou-Targhee National Forest (CTNF), Teton and Lincoln Counties, WY and Teton and Bonneville Counties, ID.

Summary: EPA expressed no objections to the proposed action.

ERP No. F-BIA-C60004-NY St. Regis Mohawk Tribe, Mohawk Mountain Casino and Resort, Proposed Transfer of 66 Acres of Land into Federal Trust Status, Fee-to-Trust Acquisition, Sullivan County, NY.

Summary: EPA continues to express concern about the project's cumulative effects and air quality analyses.

ERP No. F-FHW-G40174-TX Eastern Extension of the President George Bush Turnpike (PGBT) from TX-78 to I-30, New Controlled Access Tollway Construction at a New Location, Cities of Garland, Sachse, Rowlett and Dallas, Dallas County, TX.

Summary: No comment letter was sent to the preparing agency.

ERP No. FA-AFS-L67028-AK Kensington Gold Project, Proposed Modifications of the 1998 Approved Plan Operation, NPDES, ESA and US COE Section 10 and 404 Permits, Tongass National Forest, City of Juneau, AK.

Summary: This EIS has addressed EPA's objections about toxicity in the lake and the NPDES discharge. EPA is continuing to work through the 404(b)(1) process.

ERP No. F1-AFS-J65308-UT Wasatch Powerbird Guides Permit Renewal, Authorization to Continue Providing Guided Helicopter Skiing Activities on National Forest System (NFS) Land on the Wasatch-Cache and Uinta National Forests, Special-Use Permit (SUP), Provo and Salt Lake City, UT.

Summary: EPA expressed no objections to the proposed action.

ERP No. F1-FHW-F40361-MI MI-59 Livingston County Widening Project between I-96 and US 23, Recommended Alternative was Selected, Right-of-Way Preservation Center Corridor, Funding, NPDES and U.S. Army COE Section 404 Permits Issuance, Livingston County, MI.

Summary: EPA has environmental concerns about the project regarding invasive species control, and also requests additional information in the Record of Decision concerning wetlands impacts and secondary land use changes.

Dated: February 15, 2005.
Robert W. Hargrove,
Director, NEPA Compliance Division, Office of Federal Activities.

[FR Doc. 05-3188 Filed 2-17-05; 8:45 am]

BILLING CODE 6560-50-P